SMALL BUSINESS ADMINISTRATION

[Disaster Declaration #17499 and #17500; Oklahoma Disaster Number OK-00157]

Presidential Declaration of a Major Disaster for the State of Oklahoma

AGENCY: Small Business Administration.

ACTION: Notice.

SUMMARY: This is a Notice of the Presidential declaration of a major disaster for the State of Oklahoma (FEMA-4657-DR), dated 06/29/2022.

Incident: Severe Storms, Tornadoes, and Flooding.

Incident Period: 05/02/2022 through 05/08/2022.

DATES: Issued on 06/29/2022.

Physical Loan Application Deadline Date: 08/29/2022.

Economic Injury (EIDL) Loan Application Deadline Date: 03/29/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 06/29/2022, applications for disaster loans may be filed at the address listed above or other locally announced locations.

The following areas have been determined to be adversely affected by the disaster:

Primary Counties (Physical Damage and Economic Injury Loans):Adair, Cherokee, Muskogee, Okmulgee, Pottawatomie, Seminole, Tulsa.

Contiguous Counties (Economic Injury Loans Only):

Oklahoma: Cleveland, Creek, Delaware, Haskell, Hughes, Lincoln, Mayes, McClain, Mcintosh, Okfuskee, Oklahoma, Osage, Pawnee, Pontotoc, Rogers, Sequoyah, Wagoner, Washington.

Arkansas: Benton, Crawford, Washington.

The Interest Rates are:

| Percent
For Physical Damage:
Homeowners with Credit Available Elsewhere | 3.375
Homeowners without Credit Available Elsewhere | 1.688
Businesses with Credit Available Elsewhere | 5.870
Businesses without Credit Available Elsewhere | 2.935
Non-Profit Organizations with Credit Available Elsewhere | 1.875
Non-Profit Organizations without Credit Available Elsewhere | 1.875
For Economic Injury:
Businesses & Small Agricultural Cooperatives without Credit Available Elsewhere | 2.935
Non-Profit Organizations without Credit Available Elsewhere | 1.875

The number assigned to this disaster for physical damage is 17499 C and for economic injury is 17500 0.

(Catalog of Federal Domestic Assistance Number 59008)

Joshua Barnes,
Acting Associate Administrator for Disaster Assistance.

[FR Doc. 2022-14658 Filed 7-8-22; 8:45 am]

BILLING CODE 8026-09-P